DEPARTMENT OF TRANSPORTATION

Maritime Administration

[Docket Number: MARAD 2005—22519]

Availability of a Finding of No Significant Impact

AGENCY: Department of Transportation, Maritime Administration.

ACTION: Notice of the availability of a finding of no significant impact and finding of no practicable alternative.

SUMMARY: The purpose of this Notice is to make available to the public the Finding of No Significant Impact (FONSI) derived from the Environmental Assessment (EA) regarding the Cherry Hill Material Extraction and Transport Project on Elmendorf Air Force Base. Included in the FONSI is a Finding of No Practicable Alternative that addresses wetland loss.

The objective of this Project is to extract and transport suitable fill material for the Port of Anchorage Intermodal Expansion (Expansion). The Expansion will improve and enhance the existing dock and terminal capability at the Port to facilitate the transportation of goods and people within the State of Alaska.

FOR FURTHER INFORMATION CONTACT: Daniel E. Yuska, Jr., Environmental Protection Specialist, Office of Environmental Activities, U.S. Maritime Administration, 400 7th Street, SW., Room 7209, Washington, DC 20590; telephone (202) 366-0714, fax (202) 366-6988.

SUPPLEMENTARY INFORMATION: The Maritime Administration, in cooperation with the Port of Anchorage, completed an EA that studied potential environmental effects associated with the extraction and transport of suitable fill material from the Cherry Hill Borrow Site on Elmendorf Air Force Base. The EA considered potential effects to the natural and human environment including: air quality; water quality; geology and soils; coastal resources; terrestrial resources; aquatic resources; navigation; hazardous materials; cultural and historic resources; visual and aesthetic resources; and other topics associated with the proposed action. The FONSI is based on the analysis presented in the Cherry Hill Material Extraction and Transport EA.

The FONSI and the EA are available for review at Loussac Library in Anchorage or online at http://www.portofanchorage.org and http://www.dms.dot.gov.

Authority: 49 CFR 1.66.

By Order of the Maritime Administrator.
Dated: January 24, 2006.
Joel C. Richard,
Secretary, Maritime Administration.

[FR Doc. E6-1077 Filed 1-27-06; 8:45 am]

BILLING CODE 4910-81-P